DEPARTMENT OF ENERGY

Federal Energy Regulatory Commission

[Docket No. RP98-40-000]

Panhandle Eastern Pipeline Company; Notice of Informal Settlement Conference

March 6, 2001.

An informal settlement conference will be held in the above docket regarding the Kansas ad valorem tax refund issues in the proceedings involving the Panhandle Eastern Pipeline Company system. The conference will be held on March 13, 2001, at the Hilton Kansas City Airport hotel, 8801 112th Street, NW., Kansas City, Missouri. The conference will begin at 8:00 a.m. For questions concerning the conference, please call Deborah Osborne, Dispute Resolution Service. Her telephone number is 202-208-0831 and her e-mail address is deborah.osborne@ferc.fed.us. All interested parties in the above-referenced docket are requested to attend.

David P. Boergers,
Secretary.

[FR Doc. 01-5987 Filed 3-9-01; 8:45 am]

BILLING CODE 6717-01-M